SMALL BUSINESS ADMINISTRATION

National Small Business Development Center Advisory Board Public Meeting

Pursuant to the Federal Advisory Committee Act, Appendix 2 of Title 5, United States Code, Public Law 92-463, notice is hereby given that the U.S. Small Business Administration (SBA), National Small Business Development Center Advisory Board will be hosting a public meeting via conference call to discuss such matters that may be presented by members, and the staff of the U.S. Small Business Administration, and interested others. The conference call is scheduled on Tuesday, October 16, 2007 at 1 p.m. Eastern Standard Time.

The purpose of the meeting is to discuss follow-up information from the Association of Small Business Development Centers (ASBDC) Annual Conference that was held on September 16-20, 2007 in Denver, Colorado.

Anyone wishing to make an oral presentation to the Board must contact Alanna Falcone, Program Analyst, U.S. Small Business Administration, Office of Small Business Development Centers, 409 3rd Street, SW., Washington, DC 20416, telephone (202) 619-1612 or fax (202) 481-0134.

Matthew Teague,
Committee Management Officer.

[FR Doc. E7-19482 Filed 10-2-07; 8:45 am]

BILLING CODE 8025-01-P